DEPARTMENT OF THE INTERIOR

Fish and Wildlife Service

Final Comprehensive Conservation Plan and Environmental Assessment for Bear Butte National Wildlife Refuge, South Dakota

AGENCY: Fish and Wildlife Service, Interior.

ACTION: Notice of availability.

SUMMARY: We, the U.S. Fish and Wildlife Service (Service) announce the availability of our Final Comprehensive Conservation Plan (Plan), Environmental Assessment (EA) and Finding of No Significant Impact (FONSI) for Bear Butte National Wildlife Refuge (Refuge). This Final Plan describes how the Service intends to manage the Refuge for the next 15 years.

ADDRESSES: A copy of the Plan may be obtained by writing to U.S. Fish and Wildlife Service, Division of Refuge Planning, P.O. Box 25486, Denver Federal Center, Denver, Colorado 80225; or by download from http://mountain-prairie.fws.gov/planning.

FOR FURTHER INFORMATION CONTACT: Michael Spratt, at (303) 236-4366, (303) 236-4792 (fax), or e-mail Michael_Spratt@fws.gov.

SUPPLEMENTARY INFORMATION: This Refuge was established as a Limited-interest Refuge in the late 1930s with the acquisition of easements from private landowners, the State of South Dakota (State) and the War Department (now transferred to the Bureau of Land Management at Fort Meade), to maintain an area for “migratory bird, wildlife conservation, and other purposes.” The Refuge is 374.20 acres and has no fee title. The easement obtained from the State only applies to lands below the ordinary high-water mark of the lake. A Cooperative Agreement was entered into with the State on July 12, 1967, to administer, operate, and maintain the Refuge pursuant to the rights and interest in real property acquired by the United States, and more particularly described in the easement agreements.

The draft Plan and EA was made available for public review and comment following the announcement in the Federal Register on February 8, 2007 (72 FR 5990). The draft Plan and EA identified and evaluated two alternatives for managing the Refuge for the next 15 years. Under the No Action Alternative (Current Management), the Service would continue to manage the Refuge within the parameters of the Cooperative Agreement with South Dakota Game, Fish and Parks. Existing habitat within the easement and all public programs would continue to be administered and maintained by the State. Current habitat and wildlife management practices would be carried out by State Game, Fish, and Parks personnel and levels of public use would remain the same. The facilities and activities (hiking, picnicking, designated camping, fishing and a horse camp) would remain the same.

Alternative B, the Proposed Action (Relinquish Easement to Current Landowners), would take the Refuge out of the National Wildlife Refuge System and transfer the easements to current landowners. Under this Alternative, the habitat, public use, cultural resources and operations would be managed by the landowners (primarily the State). The Service's easement requirements would no longer exist. The Service would divest its interest in the Refuge. This would be carried out within the 15-year life of the Plan. Once the Plan was approved, the managing station would work with the Division of Realty and the Division of Planning to prepare a proposal to divest this Refuge. The proposal would be submitted to the Migratory Bird Conservation Commission for concurrence and then submitted for Congressional approval.

The Service evaluated whether or not to divest the Refuge. After careful consideration of tribal concerns and issues raised by the public, the Preferred Alternative was changed from Alternative B: Proposed Action (Relinquish Easement to Current Landowners) to Alternative A: No Action (Current Management). A large number of comments were received from tribal governments expressing concern regarding divesting this Limited-interest Refuge. While there was recognition that the Service interests are extremely limited, there was overwhelming support for the Service to continue its presence, particularly in light of the National significance of Bear Butte itself (not part of the Refuge). Therefore, the Refuge will continue to be managed according to its 1967 Cooperative Agreement with the State. According to Refuge Planning Policy (May 25, 2000), the Plan and EA should be revised when significant new information becomes available. This should occur every 15 years or sooner, if necessary. It is important to note, that if conditions change, the Service could reconsider actions approved in the Plan. If revisions were considered, full disclosure through extensive public involvement utilizing the requirements of the National Environmental Policy Act and other compliance procedures would be closely followed.

The Service is furnishing this Notice to advise other agencies and the public of the availability of the final Plan and EA, to provide information on the desired conditions for the Refuge, and to detail how the Service will implement management strategies. Based on the review and evaluation of the information contained in the EA, the Regional Director has determined that implementation of the Final Plan does not constitute a major Federal action that would significantly affect the quality of the human environment within the meaning of Section 102(2)(c) of the National Environmental Policy Act. Therefore, an Environmental Impact Statement will not be prepared.

Dated: January 24, 2008.
Gary G. Mowad,
Acting Regional Director.

[FR Doc. E8-1729 Filed 1-30-08; 8:45 am]

BILLING CODE 4310-55-P